DEPARTMENT OF HOMELAND SECURITY

Coast Guard

33 CFR Part 155

[Docket No. USCG-1998-3417]

RIN 1625-AA19 (Formerly RIN 2115-AF60)

Salvage and Marine Firefighting Requirements; Vessel Response Plans for Oil

Correction

In rule document E8-30604 beginning on page 80618 in the issue of Wednesday, December 31, 2008, make the following correction:

§155.4030 [Corrected]

On page 80651, in § 155.4030(b), in TABLE 155.4030(b)—SALVAGE AND MARINE FIREFIGHTING SERVICES AND RESPONSE TIMEFRAMES, in entry (2), in the fourth column, “ CONUS:” should read “CONUS:”

[FR Doc. Z8-30604 Filed 2-18-09; 8:45 am]

BILLING CODE 1505-01-D